LEGAL SERVICES CORPORATION

Sunshine Act Meetings of the Board of Directors and Four of the Board's Committees

Times and Dates: The Legal Services Corporation Board of Directors and four of the Board's Committees will meet on January 25-26, 2008 in the order set forth in the following schedule, with each meeting commencing shortly after adjournment of the immediately preceding meeting.

Public Observation by Telephone: Members of the public who wish to listen to the open portions of the meetings live may do so by following the telephone call-in directions given below. You are asked to keep your telephone muted to eliminate background noises. Comments from the public may from time to time be solicited by the presiding Chairman.

Call-In Directions for Open Sessions

Friday, January 25, 2008

• Call toll-free number 1-888-323-2711;

• When prompted, enter the following numeric pass code: 1619000;

• When connected to the call, please “mute” your telephone immediately.

Saturday, January 26, 2008

• Call toll-free number 1-800-593-0353;

• When prompted, enter the following numeric pass code: 4042977;

• When connected to the call, please “mute” your telephone immediately.

Meeting Schedule

Friday, January 25, 2008; Time,¹ 9 a.m.

¹ Please note that all times in this notice are Eastern Standard Time.

1. Staff Presentations regarding Various LSC activities

2. Provision for the Delivery of Legal Services Committee (Provisions Committee)

3. Operations & Regulations Committee

Saturday, January 26, 2008; Time, 8:30 a.m.

4. Annual Performance Reviews Committee (Performance Reviews Committee)

5. Finance Committee

6. Board of Directors

Location: The Legal Services Corporation, 3rd Floor Conference Center, 3333 K Street, NW., Washington, DC.

Status of Meetings: Open, except as noted below.

• January 25, 2008 Operations & Regulations Committee Meeting—One item on the Committee's agenda—i.e., staff report on follow-up to GAO report on grants management—may be closed to the public pursuant to a vote of the Board of Directors authorizing the Committee to meet in executive session. The staff report/briefing is not subject to the Government in the Sunshine Act or the Legal Services Corporation regulations implementing the Sunshine Act.² Any Board discussions concerning the report rising to the level of deliberations would be subject to the Sunshine Act but are authorized by the relevant provisions of the Sunshine Act, 5 U.S.C. 552b(c)(2) and (9)(B), and the corresponding provisions of the Legal Services Corporation's implementing regulation, 45 CFR 1622.5(a) and (g). A verbatim written transcript of the session will be made and any portions that do not fall within the briefing or the aforementioned provisions of the Sunshine Act and LSC's implementing regulation will be available for public inspection. Any portion that is limited to a staff briefing or falls within the aforementioned provisions of the Sunshine Act and LSC regulation will not be available for public inspection. A copy of the General Counsel's Certification that the closing is authorized by law will be available upon request.

² Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

• January 26, 2008 Performance Reviews Committee Meeting—Closed. This meeting may be closed to the public pursuant to a vote of the Board of Directors authorizing the Committee to meet in executive session to consider and act on the annual performance evaluation of the LSC President for calendar year 2007. The closing will be authorized by the relevant provision of the Government in the Sunshine Act, 5 U.S.C. 552b(c)(6), and the corresponding provision of the Legal Services Corporation's implementing regulation, 45 CFR 1622.5(e). A verbatim written transcript of the session will be made. The transcript of any portions of the closed session falling within the relevant provision(s) of the Government in the Sunshine Act, 5 U.S.C. 552b(c)(6), and the corresponding provision of LSC's implementing regulation, 45 CFR 1622.5(e), will not be available for public inspection. The transcript of any portions not falling within the cited provisions will be available for public inspection. A copy of the General Counsel's Certification that the closing is authorized by law will be available upon request.

• January 26, 2008 Board of Directors Meeting—Open, except that portions of the meetings of the Board of Directors may be closed to the public pursuant to a vote of the Board of Directors to take up several agenda items in executive/closed sessions. Specifically, the Board will consider and may act on the report of the Operations & Regulations Committee on staff report on follow-up to GAO report on grants management, may consider and act on the report of the Performance Reviews Committee on evaluation of the LSC President for calendar year 2007, select an LSC Inspector General, and consider and may act on the General Counsel's report on potential and pending litigation involving LSC. A verbatim written transcript of the session will be made. The transcript of any portions of the closed session falling within the relevant provisions of the Government in the Sunshine Act, 5 U.S.C. 552b(c)(2), (6), (9)(b) and (10), and the corresponding provisions of the Legal Services Corporation's implementing regulation, 45 CFR 1622.5(a), (e), (g) and (h), will not be available for public inspection. The transcript of any portions not falling within the cited provisions will be available for public inspection. A copy of the General Counsel's Certifications that the closings are authorized by law will be available upon request.

Matters To Be Considered

Friday, January 25, 2008

Staff Presentations to Board

1. TIG Evaluation

2. Technology Strategic Plan

3. Native American Issues

4. Veterans

Provision for the Delivery of Legal Services Committee

Agenda

Open Session

1. Approval of agenda

2. Approval of the Committee's meeting minutes of July 27, 2007

3. Approval of the Committee's meeting minutes of October 26, 2007

4. Staff Update on activities implementing the LSC Private Attorney Involvement Action Plan—Help Close the Justice Gap: Unleash the Power of Pro Bono

• Guy Lescault—Program Counsel, Office of Program Performance

5. Staff Update on Leadership Mentoring Pilot Program—Final Report

• Monica Evans—Program Counsel, Office of Program Performance

6. Staff Update on Pilot Loan Repayment Assistance Program—First Year Evaluation

• Bristow Hardin—Program Analyst, Office of Program Performance

7. Chairman's Update on Provisions Committee 2008 agenda

8. Public comment

9. Consider and act on other business

10. Consider and act on adjournment of meeting

Operations & Regulations Committee

Agenda

Open Session

1. Approval of agenda

2. Approval of the minutes of the Committee's October 27, 2007 meeting

3. Staff presentation on complaint investigation process

4. Follow up to GAO report on governance and accountability

a. Consider and act on proposed LSC Code of Conduct

b. Staff report on the Continuity of Operations Plan

c. Staff report on risk management plan development

Closed Session

5. Staff report on follow-up to GAO report on grants management

Open Session

6. Discussion of the OIG Report on IPAs

7. Other public comment

8. Consider and act on other business

9. Consider and act on adjournment of meeting

Saturday, January 26, 2008

Performance Reviews Committee

Agenda

Closed Session

1. Approval of agenda

2. Approval of minutes of the Committee's Open Session of October 27, 2007

3. Consider and act on the Performance Evaluation of the President for calendar year 2007

4. Consider and act on other business

5. Consider and act on adjournment of meeting

Finance Committee

Agenda

Open Session

1. Approval of agenda

2. Approval of the minutes of the Committee's meeting of July 28, 2007

3. Approval of the minutes of the Committee's meeting of September 17, 2007

4. Approval of the minutes of the Committee's meeting of October 27, 2007

5. Presentation of the Fiscal Year 2007 Annual Financial Audit

• Presentation by Dutch Merryman, Acting Inspector General

• Comments by Nancy Davis, WithumSmith+Brown, P.C.

6. Staff report on FY 2008 Appropriations

• Report by John Constance

7. Consider and act on locality pay

8. Consider and act on adoption of Consolidated Operating Budget for FY 2008

• Presentation by David Richardson

• Comments by Charles Jeffress

9. Presentation on LSC's Financial Reports for the first three months of FY 2008

• Presentation by David Richardson

• Comments by Charles Jeffress

10. Consider and act on recommendation to the Board to establish an audit committee or to assign audit committee functions to the Finance Committee

• Presentation by Nancy Davis, WithumSmith+Brown, P.C.

• Comments by Charles Jeffress, Victor Fortuno, and Dutch Merryman

11. Public comment

12. Consider and act on other business

13. Consider and act on adjournment of meeting

Board of Directors

Agenda

Open Session

1. Approval of agenda

2. Consider and act on whether to authorize an executive session of the Board to address items listed below under Closed Session

Closed Session

3. Approval of minutes of the Board's Executive Session of October 26, 2007

4. Approval of minutes of the Board's Executive Session of the Board's meeting of October 27, 2007

5. Approval of minutes of the Board's Executive Session Telephonic meeting of November 27, 2007

6. Consider and act on the report of the Operations & Regulations Committee

7. Consider and act on the report of the Performance Reviews Committee

8. Consider and act on selection of Inspector General

9. Consider and act on General Counsel's report on potential and pending litigation involving LSC

10. Consider and act on motion to return to Open Session

Open Session

11. Approval of minutes of the Board's Open Session of July 28, 2007

12. Approval of minutes of the Board's Open Session of October 26, 2007

13. Approval of minutes of the Board's Open Session of October 27, 2007

14. Approval of minutes of the Board's Open Session Telephonic meeting of November 27, 2007

15. Consider and act on nominations for the Chairman of the Board of Directors

16. Consider and act on nominations for the Vice Chairman of the Board of Directors

17. Chairman's Report

18. Members' Reports

19. President's Report

20. Acting Inspector General's Report

21. Consider and act on the report of the Provision for the Delivery of Legal Services Committee

22. Consider and act on the report of the Finance Committee

23. Consider and act on the report of the Operations & Regulations Committee

24. Consider and act on Board follow-up on recommendations to the Board contained in the report issued by the GAO on LSC governance

25. Consider and act on charters for Board committees

26. Consider and act on proposed Protocol for Board member access to Corporation records

27. Staff report on selected LSC Performance Measures

28. Public comment

29. Consider and act on other business

30. Consider and act on motion to adjourn meeting

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: January 16, 2008.
Victor M. Fortuno,
Vice President & General Counsel.

[FR Doc. 08-215 Filed 1-16-08; 2:02 pm]

BILLING CODE 7050-01-P